INTERNATIONAL TRADE COMMISSION

[Investigation Nos. 701-TA-502 and 731-TA-1227 (Review)]

Steel Concrete Reinforcing Bar From Mexico and Turkey

Determination

On the basis of the record ¹ developed in the subject five-year reviews, the United States International Trade Commission (“Commission”) determines, pursuant to the Tariff Act of 1930 (“the Act”), that revocation of the countervailing duty order on steel concrete reinforcing bar from Turkey and the antidumping duty order on steel concrete reinforcing bar from Mexico would be likely to lead to continuation or recurrence of material injury to an industry in the United States within a reasonably foreseeable time.

¹ The record is defined in § 207.2(f) of the Commission's Rules of Practice and Procedure (19 CFR 207.2(f)).

Background

The Commission instituted these reviews on October 1, 2019 (84 FR 52126) and determined on January 6, 2020 that it would conduct full reviews (85 FR 5036, January 28, 2020). Notice of the scheduling of the Commission's reviews and of a public hearing to be held in connection therewith was given by posting copies of the notice in the Office of the Secretary, U.S. International Trade Commission, Washington, DC, and by publishing the notice in the Federal Register on April 16, 2020 (85 FR 21266). In light of the restrictions on access to the Commission building due to the COVID-19 pandemic, the Commission conducted its hearing through written testimony and video conference on August 6, 2020. All persons who requested the opportunity were permitted to participate.

The Commission made these determinations pursuant to section 751(c) of the Act (19 U.S.C. 1675(c)). It completed and filed its determinations in these reviews on October 7, 2020. The views of the Commission are contained in USITC Publication 5122 (October 2020), entitled Steel Concrete Reinforcing Bar from Mexico and Turkey: Investigation Nos. 701-TA-502 and 731-TA-1227 (Review).

By order of the Commission.
Dated: October 8, 2020.
Katherine Hiner,
Acting Secretary to the Commission.

[FR Doc. 2020-22898 Filed 10-15-20; 8:45 am]

BILLING CODE 7020-02-P